DEPARTMENT OF LABOR

Mine Safety and Health Administration

Proposed Information Collection Request Submitted for Public Comment and Recommendations; Training Plans

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed.

DATES: Submit comments on or before July 31, 2001.

ADDRESSES: Send comments to Brenda C. Teaster, Acting Chief, Records Management Division, 4015 Wilson Boulevard, Room 709A, Arlington, VA 22203-1984. Commenters are encouraged to send their comments on a computer disk, or via Internet E-mail to bteaster@msha.gov, along with an original printed copy.

Ms. Teaster can be reached at (703) 235-1470 (voice), or (703) 235-1563 (facsimile).

FOR FURTHER INFORMATION CONTACT: Brenda C. Teaster, Acting Chief, Records Management Division, U.S. Department of Labor, Mine Safety and Health Administration, Room 709A, 4015 Wilson Boulevard, Arlington, VA 22203-1984. Ms. Teaster can be reached at bteaster@msha.gov (Internet E-mail), (703) 235-1470 (voice), or (703) 235-1563 (facsimile).

SUPPLEMENTARY INFORMATION:

I. Background

The Federal Mine Safety and Health Act of 1977 (Mine Act), recognizes that the role of education and training in the improvement of miner health and safety is an important element of federal efforts to make the nation's mines safer places in which to work. Section 115(a) of the Mine Act states that “each operator of a coal or other mine shall have a health and safety program which shall be approved by the Secretary.” Title 30, C.F.R. 48.3 and 48.23 specifically address the requirements for training plans. The standards are intended to ensure that miners will be effectively trained in matters affecting their health and safety, with the ultimate goal being the reduction of frequency and severity of the injuries in the nation's mines.

II. Desired Focus of Comments

Currently, the Mine Safety and Health Administration (MSHA) is soliciting comments concerning the proposed extension of the information collection related to Training Plans. MSHA is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

A copy of the proposed information collection request may be viewed on the Internet by accessing the MSHA Home Page (http://www.msha.gov) and selecting “Statutory and Regulatory Information” then “Paperwork Reduction Act submission (http://www.msha.gov/regspwork.htm)”, or by contacting the employee listed above in the FOR FURTHER INFORMATION CONTACT.

III. Current Actions

Approved training plans are used to implement training programs for training new miners, training newly employed experienced miners, training miners for new tasks, annual refresher training, and hazard training. The plans are also used by MSHA to ensure that all miners are receiving the training necessary to perform their jobs in the safest manner possible.

Type of Review: Extension.

Agency: Mine Safety and Health Administration.

Title: Training Plans.

OMB Number: 1219-0009.

OMB Number: 1219-0009.

Affected Public: Business or other for-profit.

Frequency: On Occasion.

Cite/Reference/Form/etc.: 30 CFR 48.3 and 48.23.

Total Respondents: 1,294.

Total Responses: 1,294.

Average Time per Response: 8 hours.

Estimated Total Burden Hours: 10,352 hours.

Total Annualized Capital/Startup Costs: $0.

Total Operating and Maintenance Costs: $2,588.

Comments submitted in response to this notice will be summarized and/or included in the request for Office of Management and Budget approval of the information collection request; they will also become a matter of public record.

Dated: May 23, 2001.
Brenda C. Teaster,
Acting Chief, Records Management Division.

[FR Doc. 01-13782 Filed 5-31-01; 8:45 am]

BILLING CODE 4510-43-M